DEPARTMENT OF HEALTH AND HUMAN SERVICES

Centers for Disease Control and Prevention

World Trade Center Health Program Scientific/Technical Advisory Committee (WTCHP STAC or Advisory Committee), National Institute for Occupational Safety and Health (NIOSH)

Notice of Cancellation: This notice was published in the Federal Register on December 29, 2011, Volume 76, Number 250, page 81947. This meeting, scheduled to convene on January 24, 2012 was canceled due to lack of access to the telephone number published to provide public access to the meeting. Notice will be provided when the next meeting is scheduled in accordance with section 10(a)(2) of the Federal Advisory Committee Act (Pub. L. 92-463).

Contact Person for More Information: Paul J. Middendorf, Ph.D., Designated Federal Officer, NIOSH, CDC, 4676 Columbia Parkway, Mailstop R-45, Cincinnati, OH 45226, Telephone: 1-(888) 982-4748, Email: wtc-stac@cdc.gov.

The Director, Management Analysis and Services Office, has been delegated the authority to sign Federal Register notices pertaining to announcements of meetings and other committee management activities, for both the Centers for Disease Control and Prevention and the Agency for Toxic Substances and Disease Registry.

Dated: January 26, 2012.
Elaine L. Baker,
Director, Management Analysis and Services Office, Centers for Disease Control and Prevention.

[FR Doc. 2012-2296 Filed 2-1-12; 8:45 am]

BILLING CODE 4163-18-P